DEPARTMENT OF JUSTICE

Notice of Lodging of Consent Decree Under the Comprehensive Environmental Response, Compensation, and Liability Act

Notice is hereby given that on January 25, 2008, a proposed consent decree in United States v. Reynolds Metals Company, et al., Civil Action No. 08-108-KI, was lodged with the United States District Court for the District of Oregon.

In this action the United States sought injunctive relief, response costs and natural resource damages for releases of hazardous substances at the Reynolds Metals Superfund Site near Troutdale, Oregon. The decree provides that defendants will implement remedial action at the Site and pay $501,370 in past response costs, as well as pay future response costs. In addition, defendants will complete natural resource restoration actions they are undertaking at the Site and pay $21,120 in natural resource damage assessment costs.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States v. Reynolds Metals Company, et al., Civil Action No. 08-108-KI, D.J. Ref. No. 90-11-3-08697.

The decree may be examined at the Office of the United States Attorney, 1000 SW. Third Avenue, Suite 600, Portland, Oregon 97204. During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $21.50 for the decree only or $71.00 for the decree with attachments (25 cents per page reproduction cost) payable to the United States Treasury or, if by e-mail or fax, forward a check in that amount to the Consent Decree Library at the stated address.

Robert E. Maher, Jr.,
Assistant Section Chief, Environmental Enforcement Section, Environment and Natural Resources Division.

[FR Doc. E8-4784 Filed 3-10-08; 8:45 am]

BILLING CODE 4410-15-P